DEPARTMENT OF HEALTH AND HUMAN SERVICES

Health Resources and Services Administration

Notice of Supplemental Award; Emergency Medical Services for Children Innovation and Improvement Center

AGENCY: Health Resources and Services Administration (HRSA), Department of Health and Human Services.

ACTION: Notice of supplemental award.

SUMMARY: For fiscal year 2023, HRSA will provide additional supplemental funds for the Emergency Medical Services for Children Innovation and Improvement Center to continue to provide assistance to a Pediatric Mental Health Care Access (PMHCA) award recipient so that they can improve access to PMHCA program activities in emergency departments.

FOR FURTHER INFORMATION CONTACT: Lauren Ramos, Director, Division of Maternal and Child Health Workforce Development, Maternal and Child Health Bureau, Health Resources and Services Administration, at LRamos@hrsa.gov and (301)443-6091.

SUPPLEMENTARY INFORMATION:

Intended Recipient of the Award: The University of Texas at Austin, the sole recipient of HRSA-20-037

Amount of Non-Competitive Award: One award for $1,000,000.

Project Period: September 30, 2023, to September 29, 2024.

CFDA Number: 93.110.

Award Instrument: Supplement.

Authority: 42 U.S.C. 254c-19 section 330M of the Public Health Service Act as amended by section 11005 of the Bipartisan Safer Communities Act (Pub. L. 117-159))

Table 1—Recipients and Award Amounts
Grant No. | Award recipient name | City, state | Award amount
U07MC37471 | University of Texas at Austin | Austin, TX | $1,000,000

Justification: In fiscal year 2022, Congress provided additional funding for the PMHCA program and expanded the allowable activities for PMHCA programs to include support for hospital emergency departments to address the growing behavioral health needs among children and adolescents. This supplemental funding to the existing Emergency Medical Services for Children Innovation and Improvement Center recipient will support continued expansion of PMHCA programs in providing training and tele-consult support to providers in emergency departments and other settings, consistent with the additional authority enacted by Congress.

Carole Johnson,
Administrator.

[FR Doc. 2023-21510 Filed 9-28-23; 8:45 am]

BILLING CODE 4165-15-P